DEPARTMENT OF ENERGY

Federal Energy Regulatory Commission

[Docket No. RP01-406-000]

Natural Gas Pipeline Company of America; Notice of Proposed Change in FERC Gas Tariff

May 8, 2001.

Take notice that on May 4, 2001, Natural Gas Pipeline Company of America (Natural) tendered for filing to become a part of its FERC Gas Tariff, Sixth Revised Volume No. 1, certain tariff sheets, to be effective June 4, 2001.

Natural states that the purpose of this filing is to make several minor revisions to Natural's Tariff including changes to the General Terms and Conditions, to pro forma service agreements and to several rate schedules. These changes correct or clarify various provisions of Natural's Tariff and remove or modify outdated provisions.

Natural states that copies of the filing have been mailed to its customers and interested state commissions.

Any person desiring to be heard or to protest said filing should file a motion to intervene or protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-11982 Filed 5-11-01; 8:45 am]

BILLING CODE 6717-01-M